DEPARTMENT OF AGRICULTURE

Grain Inspection, Packers and Stockyards Administration

Advisory Committee Meeting

AGENCY: Grain Inspection, Packers and Stockyards Administration, USDA.

ACTION: Notice of advisory committee meeting.

SUMMARY: Pursuant to the Federal Advisory Committee Act, this constitutes notice of the upcoming meeting of the Grain Inspection Advisory Committee. The Grain Inspection Advisory Committee meets twice annually to advise GIPSA on the programs and services we deliver under the U.S. Grain Standards Act. Recommendations by the committee help us to better meet the needs of our customers who operate in a dynamic and changing marketplace.

DATES: June 12, 8 a.m. to 5 p.m.; and June 13, 2007, 8 a.m. to 1 p.m.

ADDRESSES: The Advisory Committee meeting will take place at the Hampton Inn and Suites, Country Club Plaza, 4600 Summit, Kansas City, Missouri 64112.

Requests to address the Advisory Committee at the meeting or written comments may be sent to: Administrator, GIPSA, U.S. Department of Agriculture, 1400 Independence Avenue, SW., STOP 3601, Washington, DC 20250-3601. Requests and comments may also be faxed to (202) 690-2173.

FOR FURTHER INFORMATION CONTACT: Ms. Terri Henry, (202) 205-8281 or by e-mail at Terri.L.Henry@usda.gov.

SUPPLEMENTARY INFORMATION: The purpose of the Advisory Committee is to provide advice to the Administrator of the Grain Inspection, Packers and Stockyards Administration with respect to the implementation of the U.S. Grain Standards Act (7 U.S.C. 71 et seq.). Relevant information about the Advisory Committee is available on the GIPSA Web site. Go to http://www.gisa.usda.gov and under the section “I Want To * * *,” click on “Learn about the Advisory Committee.”

The agenda will include discussions on the agency's financial status, oversight and quality management for the official inspection system, service delivery and operations, the pilot study to contract for export service provision and supplemental labor, international market facilitation initiatives, GIPSA?s role in the ethanol market, and the relevance of the official standards for soybeans and other products.

For a copy of the agenda please contact Terri Henry, (202) 205-8281 or by e-mail Terri.L.Henry@usda.gov.

Public participation will be limited to written statements, unless permission is received from the Committee Chairman to orally address the Advisory Committee. The meeting will be open to the public.

Persons with disabilities who require alternative means of communication of program information or related accommodations should contact Terri Henry, at the telephone number listed above.

Alan Christian,
Acting Administrator, Grain Inspection, Packers and Stockyards Administration.

[FR Doc. E7-10458 Filed 5-31-07; 8:45 am]

BILLING CODE 3410-KD-P